DEPARTMENT OF LABOR

Employment and Training Administration

[TA-W-63,213]

Mitsubishi Kagaku Imaging Corporation; Chesapeake, VA; Notice of Termination of Investigation

Pursuant to Section 221 of the Trade Act of 1974, as amended, an investigation was initiated on April 18, 2008, in response to a petition filed by a company official on behalf of workers at Mitsubishi Kagaku Imaging Corporation, Chesapeake, Virginia.

The petitioner has requested that the petition be withdrawn. Consequently, the investigation has been terminated.

Signed at Washington, DC, this 20th day of May 2008.
Richard Church,
Certifying Officer, Division of Trade Adjustment Assistance.

[FR Doc. E8-11907 Filed 5-28-08; 8:45 am]

BILLING CODE 4510-FN-P